DEPARTMENT OF ENERGY

Federal Energy Regulatory Commission

[Docket No. RM95-4-000]

Electronic Filing and Public Access to Information; Notice of Availability of Submission Software for FERC Form Nos. 2 and 2-A: Annual Report of Major Natural Gas Companies and Annual Report of Non-Major Natural Gas Companies

December 20, 2001.

The Federal Energy Regulatory Commission (Commission) hereby gives notice that it is providing software to the major and non-major natural gas pipelines to prepare both the paper and electronic submissions of the FERC Form No. 2 and Form No. 2-A (Form 2 and 2-A). The software is free of charge and all jurisdictional Form 2 and 2-A respondents are required to use it starting with the 2001 submissions due on or before March 31, 2002, for the Form No. 2-A and April 30, 2002, for the Form No. 2. The Commission has not modified the forms and the data required on the current schedules have not changed.

The Form 2 and 2-A submission software is Windows 95/98/2000/NT/XP compatible and will provide benefits to the respondent, the Commission and users of the data. The software will facilitate data entry and database loading, improve data integrity, enhance consistency between the paper and electronic filings, and eliminate the requirement to physically submit the electronic file to the Commission on a diskette or CD. Last year a beta version of the software was used successfully by 47 of 110 Form 2 and 2-A respondents to prepare their year 2000 paper submission and to upload the electronic submission to the Commission via the Internet.

Software distribution, set-up, updates, and submission of the electronic filing will all be accomplished via the Internet. In order to disseminate information on the submission software and to keep interested parties aware of any new developments, we are creating a point-of-contact list for companies that file Form 2 and 2-A. Persons who submit FERC Form 2 and 2-A, either for their company, or as an agent for another company, must first register to receive a Personal Identification Number (PIN). The PIN is required for electronic filing.

To register for a PIN, send an E-mail to Bolton Pierce (bpierce@ferc.fed.us) containing the exact legal name of the respondent company, the respondent's address, a contact person's name, phone number and E-mail address. A PIN will be assigned and sent by return E-mail. Instructions for downloading and installing the Form 2 and 2A Submission Software are available at http://rimsweb2.ferc.fed.us/form2/. Federal and state agencies and others who wish to access and use the Form 2/2A data may download it without restriction from this same web address.

Respondents who submitted their year 2000 filing with the new software need only send in any changes to their point-of-contact information. If you have questions about the new software, please E-mail them to Bolton Pierce at bpierce@ferc.fed.us. Respondents with questions concerning the Form Nos. 2 and 2-A may contact James M. Krug at (202) 208-0419 or Craig A. Hill at (202) 208-0621.

The issuance of this software does not change the paper submission requirements for the forms this year. In addition to using the software to upload the electronic submission to the Commission via the Internet, Form 2-A respondents must also submit an original and two conformed paper copies of a completed form by March 31. Form 2 respondents must submit an original and four paper copies of the completed form by April 30. The original paper version is to be produced by the software.

The Commission has also developed, and made available via the Internet, Form 2 and 2-A “viewer” software to allow the public and other interested parties to download, view and print the Form 2 and 2-A data submitted electronically by the respondents for the years 1996 and later. This software was made available on December 19, 2001.

Linwood A. Watson, Jr.,
Acting Secretary.

[FR Doc. 01-31997 Filed 12-27-01; 8:45 am]

BILLING CODE 6717-01-P